DEPARTMENT OF COMMERCE

International Trade Administration

[C-507-501; C-507-601]

Correction to Certain In-Shell Pistachios (C-507-501) and Certain Roasted In-Shell Pistachios (C-507-601) From the Islamic Republic of Iran: Extension of Time Limit for Final Results of Countervailing Duty New Shipper Reviews

AGENCY: Import Administration, International Trade Administration, Department of Commerce.

EFFECTIVE DATE: November 12, 2002.

FOR FURTHER INFORMATION CONTACT: Eric B. Greynolds or Darla Brown, AD/CVD Enforcement, Office VI, Group II, Import Administration, U.S. Department of Commerce, Room 4012, 14th Street and Constitution Avenue, NW., Washington, DC 20230; telephone (202) 482-2786.

Corrections to Extension of Time Limit for Final Results of Countervailing Duty New Shipper Reviews

On October 23, 2002, the Department published its notice of Certain In-Shell Pistachios (C-507-501) and Certain Roasted In-Shell Pistachios (C-507-601) From the Islamic Republic of Iran: Extension of Time Limit for Final Results of Countervailing Duty New Shipper Reviews (Extension Notice). See 67 FR 65090. In the “Extension of Final Results of Reviews” section of the Extension Notice, we inadvertently stated that the Department is extending the time limits for completion of the final results until no later than January 24, 2002. We should have stated that the Department is extending the time limits for completion of the final results until no later than January 24, 2003. This extension is in accordance with section 751(a)(2)(B)(iv) of the Act.

Dated: October 31, 2002.
Bernard T. Carreau,
Deputy Assistant Secretary for Import Administration.

[FR Doc. 02-28700 Filed 11-8-02; 8:45 am]

BILLING CODE 3510-DS-P